DEPARTMENT OF ENERGY

Federal Energy Regulatory Commission

[Docket No. RP03-47-002]

Gulf South Pipeline Company, LP; Notice of Compliance Filing

October 23, 2003.

Take notice that October 20, 2003, Gulf South Pipeline Company (Gulf South) tendered for filing as part of its FERC Gas Tariff, Sixth Revised Volume No. 1, the following tariff sheets with an effective date of May 1, 2003:

Second Revised Sheet No. 2003.

First Revised Sheet No. 2004.

Sheet No. 2005.

Gulf South states that the revised tariff sheets are being filed in compliance with the Commission's October 3, 2003 Order regarding Gulf South's proposal to establish a minimum threshold for the connection of new receipt and delivery points and to require certain quality control equipment to be installed at receipt points.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00130 Filed 10-29-03; 8:45 am]

BILLING CODE 6717-01-P